DEPARTMENT OF TRANSPORTATION

Federal Aviation Administration

Notice of Intent To Rule on Disposal of Aeronautical Property at Concord Regional Airport, Concord, NC

AGENCY: Federal Aviation Administration (FAA), DOT.

ACTION: Request for Public Comment.

SUMMARY: The Federal Aviation Administration is requesting public comment on a request by the City of Concord, North Carolina, owner of the Concord Regional Airport, to release for disposal a portion of airport property at the Concord Regional Airport. The request consists of approximately 2.455 acres for a new Right-Of-Way for the Poplar Tent Road, .59 acres of temporary construction easements and .088 acres of permanent utility easements. This release will be retroactive for a project that improved Poplar Tent Road by the North Carolina Department of Transportation (NCDOT) initiated on March 12, 2012. This action is taken under the provisions of Section 125 of the Wendell H. Ford Aviation Investment Reform Act for the 21st Century (AIR 21).

DATES: Comments must be received on or before January 8, 2015.

ADDRESSES: Documents are available for review at the Concord Regional Airport, 9000 Aviation Blvd., Concord, NC 28027; and the FAA Memphis Airports District Office, 2600 Thousand Oaks Boulevard, Suite 2250, Memphis, TN 38118-2482. Written comments on the Sponsor's request must be delivered or mailed to: Mr. Phillip J. Braden, Manager, Memphis Airports District Office, 2600 Thousand Oaks Boulevard, Suite 2250, Memphis, TN 38118-2482.

In addition, a copy of any comments submitted to the FAA must be mailed or delivered to Mr. Rick Cloutier, Aviation Director, Concord Regional Airport Authority, 9000 Aviation Blvd., Concord, NC 28027.

FOR FURTHER INFORMATION CONTACT: Mr. Michael L. Thompson, Program Manager, Federal Aviation Administration, Memphis Airports District Office, 2600 Thousand Oaks Boulevard, Suite 2250, Memphis, TN 38118-2482. The application may be reviewed in person at this same location, by appointment.

SUPPLEMENTARY INFORMATION: The FAA proposes to rule and invites public comment on the request to release property for disposal at Concord Regional Airport, Concord, NC 28027 under the provisions of AIR 21 (49 U.S.C. 47107(h)(2)).

On November 20, 2014, the FAA determined that the request to release property for non-aeronautical purposes at Concord Regional Airport meets the procedural requirements of the Federal Aviation Administration. The FAA may approve the request, in whole or in part, no later than January 8, 2015.

The following is a brief overview of the request:

The Concord Regional Airport is proposing the release of approximately 2.455 acres for new Right-Of-Way for the Poplar Tent Road, .59 acres of temporary construction easements and .088 acres of permanent utility easements, to allow improvements to Poplar Tent Road by the NCDOT. This property is located along the existing airport northern property line extending approximately 335 feet along the Poplar Tent Road.

Any person may inspect, by appointment, the request in person at the FAA office listed above under FOR FURTHER INFORMATION CONTACT.

Issued in Memphis, TN, on December 3, 2014.
Phillip Braden,
Manager, Memphis Airports District Office.

[FR Doc. 2014-28822 Filed 12-8-14; 8:45 am]

BILLING CODE 4910-13-P